DEPARTMENT OF TRANSPORTATION

Federal Aviation Administration

14 CFR Part 39

[Docket No. FAA-2023-2242; Project Identifier MCAI-2023-00704-T; Amendment 39-22763; AD 2024-11-02]

RIN 2120-AA64

Airworthiness Directives; Bombardier, Inc., Airplanes

AGENCY: Federal Aviation Administration (FAA), DOT.

ACTION: Final rule.

SUMMARY: The FAA is adopting a new airworthiness directive (AD) for certain Bombardier, Inc., Model BD-100-1A10 airplanes. This AD was prompted by a determination that new or more restrictive maintenance tasks are necessary. This AD requires revising the existing maintenance or inspection program, as applicable, to incorporate new or more restrictive maintenance tasks. The FAA is issuing this AD to address the unsafe condition on these products.

DATES: This AD is effective August 26, 2024.

The Director of the Federal Register approved the incorporation by reference of certain publications listed in this AD as of August 26, 2024.

ADDRESSES:

AD Docket: You may examine the AD docket at regulations.gov under Docket No. FAA-2023-2242; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195. It is also available at regulations.gov under Docket No. FAA-2023-2242.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Bombardier, Inc., Model BD-100-1A10 airplanes. The NPRM published in the Federal Register on December 19, 2023 (88 FR 87725). The NPRM was prompted by AD CF-2023-34, dated May 25, 2023, issued by Transport Canada, which is the aviation authority for Canada (referred to after this as the MCAI). The MCAI states that new or more restrictive maintenance tasks have been developed.

In the NPRM, the FAA proposed to require revising the existing maintenance or inspection program, as applicable, to incorporate new or more restrictive maintenance tasks. The FAA is issuing this AD to address failure or degradation of the horizontal stabilizer trim actuator (HSTA) and motor brake assembly. A failed or degraded HSTA or motor brake assembly could result in loss of control of the airplane.

You may examine the MCAI in the AD docket at regulations.gov under Docket No. FAA-2023-2242.

Discussion of Final Airworthiness Directive

Comments

The FAA received comments from a commenter. The following presents the comments received on the NPRM and the FAA's response to each comment.

Request for Revised Compliance Language

The commenter requested a revision to paragraph (g) of the proposed AD to reflect the language from MCAI that more explicitly allows for the use of superseding Temporary Revisions or later revisions. The commenter stated that the proposed phrase, “incorporate the information specified in,” is too open to interpretation.

The FAA partially agrees with the request to revise the proposed language. The phrase “incorporate the information specified” refers to the information stated in the tasks referenced in figures 1 and 2 to paragraph (g) of this AD. As long as the information in the referenced task remains the same, an operator can show compliance with that task without having to obtain an alternative method of compliance (AMOC) approval. The FAA has revised paragraph (g) of this AD to include “incorporate the information in the tasks specified . . .” to clarify that it's only the information within the task that is mandated to be incorporated into the maintenance or inspection program and that as long as that task information doesn't change from the time limit/maintenance check (TLMC) document revision specified in figures 1 and 2 to paragraph (g) of this AD an AMOC is not required.

Request for Reference to Later Revision of Service Information

The commenter requested that the FAA revise figures 1 and 2 to paragraph (g) of the proposed AD to reference a general revision of a TLMC instead of a temporary revision. The commenter stated that without the language from the MCAI that states permission to use “or later revision,” the proposed AD would not allow the use of the general revision of the TLMC that contains the task information. The commenter added that an operator would then be required to maintain a copy of the temporary revision and general revisions of the TLMC that are noted in figures 1 and 2 to paragraph (g) of the proposed AD.

The FAA provides the following clarification. As previously mentioned, the AD requires that the maintenance or inspection program be revised to incorporate the task information specified in the applicable time TLMC or temporary revision (TR) document. Therefore, as long the information is the same in the general revision of a TLMC as the task information specified in the TR document, an AMOC is not required. The FAA has revised paragraph (g) of this AD for clarification.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed the following Bombardier service information, which describes new or more restrictive airworthiness limitation maintenance tasks that specify inspection and overhaul of the HSTA and add flight cycle and flight-hour limitations. Note: The asterisk (or “one star”) or double asterisk (“two star”) with the last three digits of the task numbers indicates that the task is an airworthiness limitation task.

• Sections 5-10-20, “Time Limits—Supplementary Limitations,” and 5-10-40, “Certification Maintenance Requirements,” of part 2, “Airworthiness Limitations,” of the Bombardier Challenger 350 Time Limits/Maintenance Check, Publication No. CH 350 TLMC, Revision 13, dated June 14, 2022, which include Task 27-40-00-104*, “Restoration (Overhaul) of the Horizontal-Stabilizer Trim-Actuator (HSTA), Part No. C47100-004 and subs,” and Task 27-41-05-104*, “Restoration (Overhaul) of the Horizontal-Stabilizer Trim-Actuator (HSTA), Part No. C47100-004/-005.”

• Sections 5-10-20, “Time Limits—Supplementary Limitations,” and 5-10-40, “Certification Maintenance Requirements,” of part 2, “Airworthiness Limitations,” of the Bombardier Challenger 300 Time Limits/Maintenance Check, Publication No. CH 300 TLMC, Revision 23, dated June 14, 2022, which include Task 27-40-00-104*, “Restoration (Overhaul) of the Horizontal-Stabilizer Trim-Actuator (HSTA), Part No. C47100-004 and subs,” and Task 27-41-05-104*, “Restoration (Overhaul) of the Horizontal-Stabilizer Trim-Actuator (HSTA), Part No. C47100-004/-005.”

• Temporary Revision 5-2-31, dated January 31, 2023, which includes Task 27-40-00-108**, “Restoration (Inspection) of the Horizontal-Stabilizer Trim-Actuator (HSTA), Part No. C47100-003 and subs.”

• Temporary Revision 5-2-102, dated January 31, 2023, which includes Task 27-40-00-108**, “Restoration (Inspection) of the Horizontal-Stabilizer Trim-Actuator (HSTA), Part No. C47100-003 and subs.”

These documents are distinct since they apply to different airplane models.

This service information is reasonably available because the interested parties have access to it through their normal course of business or by the means identified in the ADDRESSES section.

Costs of Compliance

The FAA estimates that this AD affects 737 airplanes of U.S. registry. The FAA estimates the following costs to comply with this AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-11-02 Bombardier, Inc.: Amendment 39-22763; Docket No. FAA-2023-2242; Project Identifier MCAI-2023-00704-T.

(a) Effective Date

This airworthiness directive (AD) is effective August 26, 2024.

(b) Affected ADs

None.

(c) Applicability

This AD applies to Bombardier, Inc., Model BD-100-1A10 airplanes, certificated in any category, having serial numbers (S/Ns) 20003 through 20500 inclusive, and 20501 through 20959 inclusive.

(d) Subject

Air Transport Association (ATA) of America Code 05, Time Limits/Maintenance Checks; 27, Stabilizer.

(e) Reason

This AD was prompted by a determination that new or more restrictive maintenance tasks are necessary. The FAA is issuing this AD to address failure or degradation of the horizontal stabilizer trim actuator (HSTA) and motor brake assembly. The unsafe condition, if not addressed, could result in loss of control of the airplane.

(f) Compliance

Comply with this AD within the compliance times specified, unless already done.

(g) Maintenance or Inspection Program Revision

Within 60 days after the effective date of this AD, revise the existing maintenance or inspection program, as applicable, to incorporate the information in the tasks specified in figure 1 or 2 to paragraph (g) of this AD, as applicable. The initial compliance time for doing the tasks is at the time specified in the applicable temporary revision (TR) or time limit/maintenance check (TLMC) document specified in figures 1 and 2 to paragraph (g) of this AD, or within 60 days after the effective date of this AD, whichever occurs later. When the information in the applicable TR has been incorporated into the general revision of that Bombardier TLMC, the maintenance or inspection program may be revised using the information in the general revision.

Figure 1 to Paragraph (g)—Tasks for Model BD-100-1A10 Airplanes Having S/Ns 20003 Through 20500

Note 1 to Figure 1 to paragraph (g): The section number in the footer on certain pages of the TLMC sections is incomplete (i.e., “05-10-2” instead of “05-10-20” and “05-10-4” instead of “05-10-40”).

Note 2 to Figure 1 to paragraph (g): The asterisk (or “one star”) or double asterisk (“two star”) with the last three digits of the task numbers listed in figures 1 and 2 to paragraph (g) of this AD indicates that the task is an airworthiness limitation task.

Figure 2 to Paragraph (g)—Tasks for Model BD-100-1A10 Airplanes Having S/Ns 20501 Through 20959

(h) No Alternative Actions, or Intervals

After the existing maintenance or inspection program has been revised as required by paragraph (g) of this AD, no alternative actions (e.g., inspections) or intervals may be used unless the actions and intervals are approved as an alternative method of compliance (AMOC) in accordance with the procedures specified in paragraph (i)(1) of this AD.

(i) Other FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to ATTN: Program Manager, Continuing Operational Safety, at the address identified in paragraph (j) of this AD or email to: 9-avs-nyaco-cos@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier Inc.'s Transport Canada Design Approval Organization (DAO). If approved by the DAO, the approval must include the DAO-authorized signature.

(j) Additional Information

For more information about this AD, contact Gabriel Kim, Aviation Safety Engineer, FAA, 1600 Stewart Avenue, Suite 410, Westbury, NY 11590; telephone 516-228-7300; email 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Section 5-10-20, “Time Limits—Supplementary Limitations,” of Part 2, “Airworthiness Limitations,” of the Bombardier Challenger 300 Time Limits/Maintenance Check, Publication No. CH 300 TLMC, Revision 23, dated June 14, 2022.

Note 3 to paragraph (k)(2)(i): The section number in the footer on pages 1 and 2 of Section 5-10-20, “Time Limits—Supplementary Limitations,” of Part 2, “Airworthiness Limitations,” of the Bombardier Challenger 300 Time Limits/Maintenance Check, Publication No. CH 300 TLMC, Revision 23, dated June 14, 2022, is incorrectly identified as “05-10-2” instead of “05-10-20.”

(ii) Section 5-10-20, “Time Limits—Supplementary Limitations,” of Part 2, “Airworthiness Limitations,” of the Bombardier Challenger 350 Time Limits/Maintenance Check, Publication No. CH 350 TLMC, Revision 13, dated June 14, 2022.

Note 4 to paragraph (k)(2)(ii): The section number in the footer on pages 1 and 2 of Section 5-10-20, “Time Limits—Supplementary Limitations,” of Part 2, “Airworthiness Limitations,” of the Bombardier Challenger 350 Time Limits/Maintenance Check, Publication No. CH 350 TLMC, Revision 13, dated June 14, 2022, is incorrectly identified as “05-10-2” instead of “05-10-20.”

(iii) Section 5-10-40, “Certification Maintenance Requirements,” of Part 2, “Airworthiness Limitations,” of the Bombardier Challenger 300 Time Limits/Maintenance Check, Publication No. CH 300 TLMC, Revision 23, dated June 14, 2022.

Note 5 to paragraph (k)(2)(iii): The section number in the footer on the cover page of Section 5-10-40, “Certification Maintenance Requirements,” of Part 2, “Airworthiness Limitations,” of the Bombardier Challenger 300 Time Limits/Maintenance Check, Publication No. CH 300 TLMC, Revision 23, dated June 14, 2022, is incorrectly identified as “05-10-4” instead of “05-10-40.”

(iv) Section 5-10-40, “Certification Maintenance Requirements,” of Part 2, “Airworthiness Limitations,” of the Bombardier Challenger 350 Time Limits/Maintenance Check, Publication No. CH 350 TLMC, Revision 13, dated June 14, 2022.

Note 6 to paragraph (k)(2)(iv): The section number in the footer on the cover page of Section 5-10-40, “Certification Maintenance Requirements,” of Part 2, “Airworthiness Limitations,” of the Bombardier Challenger 350 Time Limits/Maintenance Check, Publication No. CH 350 TLMC, Revision 13, dated June 14, 2022, is incorrectly identified as “05-10-4” instead of “05-10-40.”

(v) Bombardier Temporary Revision 5-2-31, dated January 31, 2023.

(vi) Bombardier Temporary Revision 5-2-102, dated January 31, 2023.

(3) For Bombardier material, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on July 16, 2024.
James D. Foltz,
Deputy Director, Compliance & Airworthiness Division, Aircraft Certification Service.

[FR Doc. 2024-15972 Filed 7-19-24; 8:45 am]

BILLING CODE 4910-13-P